FEDERAL COMMUNICATIONS COMMISSION

47 CFR Part 73

[DA 02-785, MM Docket No. 02-3, RM-10349]

Digital Television Broadcast Service; Lakin, KS

AGENCY: Federal Communications Commission.

ACTION: Final rule.

SUMMARY: The Commission, at the request of Smoky Hills Public Television, licensee of noncommercial educational station KSWK-T, NTSC channel *3, Lakin, Kansas, substitutes DTV channel *8 for DTV channel *23 at Lakin. See 67 FR 4941, February 1, 2002. DTV channel *8 can be allotted to Lakin, Kansas, in compliance with the principle community coverage requirements of Section 73.625(a) at reference coordinates (37-49-38 N. and 101-06-35 W.) with a power of 100, HAAT of 141 meters and with a DTV service population of 101 thousand. With this action, this proceeding is terminated.

DATES: Effective May 30, 2002.

FOR FURTHER INFORMATION CONTACT: Pam Blumenthal, Media Bureau, (202) 418-1600.

SUPPLEMENTARY INFORMATION: This is a synopsis of the Commission's Report and Order, MM Docket No. 02-3, adopted April 8, 2002, and released April 15, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Kansas, is amended by removing DTV channel *23 and adding DTV channel *8 at Lakin.

Federal Communications Commission.
Barbara A. Kreisman,
Chief, Video Division, Media Bureau.

[FR Doc. 02-9277 Filed 4-16-02; 8:45 am]

BILLING CODE 6712-01-P